DEPARTMENT OF COMMERCE

National Oceanic and Atmospheric Administration

Federal Consistency Appeal by Singleton Development Corporation From an Objection by the Mississippi Department of Marine Resources

AGENCY: National Oceanic and Atmospheric Administration (NOAA), Department of Commerce (Commerce).

ACTION: Notice of closure—administrative appeal decision record.

SUMMARY: This announcement provides notice that the decision record has been closed for an administrative appeal filed with the Department of Commerce by Singleton Development Corporation.

DATES: The decision record for the Singleton Development Corporation administrative appeal will close as of the date of publication of this notice.

ADDRESSES: Materials from the appeal record are available at the Office of the Assistant General Counsel for Ocean Services, National Oceanic and Atmospheric Administration, U.S. Department of Commerce, 1305 East-West Highway, Silver Spring, Maryland 20910.

FOR FURTHER INFORMATION CONTACT: Jennifer Nist, Deputy Assistant General Counsel for Ocean Services, NOAA Office of the General Counsel, 301-713-2967, extension 207.

SUPPLEMENTARY INFORMATION: Singleton Development Corporation has filed a notice of appeal with the Secretary of Commerce pursuant to section 307(c)(3)(A) of the Coastal Zone Management Act of 1972 (CZMA), as amended, 16 U.S.C. 1456(c)(3)(A), and implementing regulations found at 15 CFR part 930, subpart H. Singleton Development Corporation appeals an objection raised by the Mississippi Department of Marine Resources to a consistency certification contained within its application for a U.S. Army Corps of Engineers permit necessary to expand a residential subdivision. The proposed site consists of 3.89 acres of wetlands.

The CZMA requires a notice be published in the Federal Register, indicating the date on which the decision record has been closed. A final decision on this appeal must be issued no later than 90 days after publication of this notice. 16 U.S.C. 1465(a). The deadline may be extended by publishing, within the 90-day period, a subsequent notice explaining why a decision cannot be issued within this time frame. In this event, a final decision must be issued no later than 45 days after publication of the subsequent notice. 16 U.S.C. 1465(b).

For additional information about this appeal contact Jennifer Nist, 301-713-2967, extension 207.

(Federal Domestic Assistance Catalog No. 11.419 Coastal Zone Management Program Assistance.)

Dated: May 5, 2005.
James R. Walpole,
General Counsel.

[FR Doc. 05-9523 Filed 5-11-05; 8:45 am]

BILLING CODE 3510-08-M